DEPARTMENT OF COMMERCE

National Oceanic and Atmospheric Administration

50 CFR Part 648

[Docket No. 030409081-3081-01; I.D. 032103B]

RIN 0648-AQ72

Magnuson-Stevens Fishery Conservation and Management Act Provisions; Fisheries of the Northeastern United States; Northeast (NE) Multispecies Fishery; Correction

AGENCY: National Marine Fisheries Service (NMFS), National Oceanic and Atmospheric Administration (NOAA), Commerce.

ACTION: Proposed emergency rule; correction.

SUMMARY: This document corrects the preamble and regulatory text to a proposed emergency rule published on April 24, 2003, regarding a proposed action to ensure that the regulations governing the Northeast Multispecies fishery continue to be in compliance with the Settlement Agreement Among Certain Parties, which was ordered to be implemented as ordered by the U.S. District Court for the District of Columbia (Court) in a Remedial Order issued on May 23, 2002. This correction remedies certain typographical, editorial, and format errors contained in the proposed emergency rule.

FOR FURTHER INFORMATION CONTACT: Thomas Warren, Fishery Policy Analyst, phone 978-281-9347.

SUPPLEMENTARY INFORMATION:

Need for Correction

The proposed emergency rule published on April 24, 2003, which was the subject of FR Doc. 03-10163, contained information that may be confusing to the public. This document corrects those items as follows:

1. On page 20097, in the first column under SUMMARY, in the 29th line down, add “13” following the word “Amendment”.

2. On page 20097, in the first column under ADDRESSES, remove the second paragraph in its entirety, and add in its place the following: “Written comments regarding the proposed collection-of-information requirements should be sent to the Regional Administrator and to the Office of Information and Regulatory Affairs, Office of Management and Budget, Washington, DC 20503 (Attn: NOAA Desk Officer).”

3. On page 20097, in the first column under ADDRESSES, in the third paragraph, remove the first two lines, “Written comments regarding the proposed collection-of-information”.

4. On page 20098, under Regulated Mesh Areas (RMAs), at the end of the paragraph remove “≥” and add quotation marks in its place (”).

5. On page 20103, Table 3, seventh column heading, remove “401-65” and add in its place “401-650”.

6. On page 20108, Table A, under § 648.82(m)(4)(iii), seventh column heading, remove “401-65” and add in its place “401-650”.

Dated: May 1, 2003.
Rebecca Lent,
Deputy Assistant Administrator for Regulatory Programs, National Marine Fisheries Service.

[FR Doc. 03-11614 Filed 5-8-03; 8:45 am]

BILLING CODE 3510-22-S